FEDERAL COMMUNICATIONS COMMISSION

[CG Docket No. 03-123; DA 06-23]

National Exchange Carrier Association's Request To Withdraw Its Petition for Interim Waiver and Rulemaking Concerning the Compensation of Wireless Telecommunications Relay Service (TRS) is Granted

AGENCY: Federal Communications Commission.

ACTION: Notice; petition for rulemaking; withdrawal.

SUMMARY: In this document, the Commission grants NECA's request to withdraw its Petition for Interim Waiver and Rulemaking (Petition) concerning the compensation of wireless TRS calls. The Commission grants the request without prejudice to NECA (or any other interested entity) filing a future petition of this issue.

DATES: Effective January 6, 2006.

FOR FURTHER INFORMATION CONTACT: Thomas Chandler, Consumer & Governmental Affairs Bureau, Disability Rights Office at (202) 418-1475 (voice), (202) 418-0597 (TTY), or e-mail Thomas.Chandler@fcc.gov.

SUPPLEMENTARY INFORMATION: On June 13, 2003, the Commission released Public Notice DA 03-1939, in CC Docket No. 98-67, which published in the Federal Register on June 23, 2003 (68 FR 37158), seeking comment on NECA's July 22, 2002 Petition for Interim Waiver and Rulemaking concerning the compensation of wireless TRS calls. This is a summary of the Commission's document DA 06-23, released January 6, 2006 in CG Docket No. 03-123. The full text of document DA 06-23 and copies of any subsequently filed documents in this matter will be available for public inspection and copying during regular business hours at the FCC Reference Information Center, Portals II, 445 12th Street, SW., Room CY-A257, Washington, DC 20554. Document DA 06-23 and copies of subsequently filed documents in this matter may also be purchased from the Commission's duplicating contractor at Portals II, 445 12th Street, SW., Room CY-B402, Washington, DC 20554. Customers may contact the Commission's contractor at their Web site www.bcpiweb.com or by calling 1-800-378-3160. A copy of the Petition for Rulemaking may also be found by searching ECFS at http://www.fcc.gov/cgb/ecfs (insert CG Docket No. 03-123 into the proceeding block).

To request materials in accessible formats for people with disabilities (Braille, large print, electronic files, audio format), send an e-mail to fcc504@fcc.gov or call the Consumer & Governmental Affairs Bureau at (202) 418-0530 (voice), (202) 418-0432 (TTY). Document DA 06-23 can also be downloaded in Word or Portable Document Format (PDF) at: http://www.fcc.gov/cgb/dro.

Federal Communications Commission.
Jay Keithley,
Deputy Chief, Consumer & Governmental Affairs Bureau.

[FR Doc. 06-389 Filed 1-17-06; 8:45 am]

BILLING CODE 6712-01-P